DEPARTMENT OF ENERGY

Federal Energy Regulatory Commission

Combined Notice of Filings

Take notice that the Commission has received the following Natural Gas Pipeline Rate and Refund Report filings:

Filings Instituting Proceedings

Docket Numbers: PR25-5-000.

Applicants: Questar Gas Company.

Description: § 284.123 Rate Filing: Questar dba Enbridge Utah Gas SOC filing October 17, 2024 to be effective 10/1/2024.

Filed Date: 10/17/24.

Accession Number: 20241017-5117.

Comment Date: 5 p.m. ET 11/7/24.

Docket Numbers: RP25-78-000.

Applicants: Centra Pipelines Minnesota Inc.

Description: § 4(d) Rate Filing: Updated Index of Shippers December 2024 to be effective 12/1/2024.

Filed Date: 10/18/24.

Accession Number: 20241018-5068.

Comment Date: 5 p.m. ET 10/30/24.

Docket Numbers: RP25-79-000.

Applicants: Portland Natural Gas Transmission System.

Description: § 4(d) Rate Filing: Notice Address Update to be effective 11/18/2024.

Filed Date: 10/18/24.

Accession Number: 20241018-5073.

Comment Date: 5 p.m. ET 10/30/24.

Docket Numbers: RP25-80-000.

Applicants: Guardian Pipeline, L.L.C.

Description: § 4(d) Rate Filing: Update to Part 8, Section 38, Removal of Non-Conforming Agreements to be effective 11/20/2024.

Filed Date: 10/18/24.

Accession Number: 20241018-5079.

Comment Date: 5 p.m. ET 10/30/24.

Docket Numbers: RP25-81-000.

Applicants: Guardian Pipeline, L.L.C.

Description: § 4(d) Rate Filing: Combined Update to Remove Non-Conforming and Expired Agreements—October 2024 to be effective 11/20/2024.

Filed Date: 10/18/24.

Accession Number: 20241018-5091.

Comment Date: 5 p.m. ET 10/30/24.

Docket Numbers: RP25-82-000.

Applicants: TransCameron Pipeline, LLC.

Description: Compliance filing: TransCameron Cost Revenue Study re CP15-551-000 to be effective N/A.

Filed Date: 10/18/24.

Accession Number: 20241018-5099.

Comment Date: 5 p.m. ET 10/30/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 18, 2024.
Debbie-Anne A. Reese,
Secretary.

[FR Doc. 2024-24810 Filed 10-24-24; 8:45 am]

BILLING CODE 6717-01-P